DEPARTMENT OF AGRICULTURE

Sunshine Act Meeting

AGENCY: Rural Telephone Bank, USDA.

ACTION: Staff briefing for the Board of Directors.

Time and Date: 2 p.m., Thursday, November 13, 2003.

Place: Conference Room 104-A, Jamie L. Whitten Federal Building, U.S. Department of Agriculture, 12th & Jefferson Drive, SW., Washington, DC.

Status: Open.

Matters To Be Discussed: 1. Year-end report on fiscal year 2003 lending activity.

2. Fiscal year 2004 Budget.

3. Update on fiscal year 2003 audit.

4. Privatization discussion.

5. Administrative and other issues.

ACTION: Stockholders' meeting.

Time and Date: 9 a.m., Friday, November 14, 2003.

Place: Jefferson Auditorium, U.S. Department of Agriculture, South Building, 14th & Independence Avenue, SW., Washington, DC.

Status: Open.

Matters To Be Discussed: The following matters have been placed on the agenda for the Stockholders' meeting:

1. Call to order.

2. Establishment of a quorum.

3. Action on Minutes of the August 17, 2001, Stockholders' meeting.

4. Secretary's report on loans approved, FY 2003.

5. Treasury's report.

6. Privatization update, discussion, and presentations.

7. Consideration of resolution to conduct a Market Assessment.

8. New business.

9. Adjournment.

ACTION: Board of Directors meeting.

Time and Date: Immediately following Stockholders' meeting, Friday, November 14, 2003.

Place: Jefferson Auditorium, U.S. Department of Agriculture, South Building, 14th & Independence Avenue, SW., Washington, DC.

Status: Open.

Matters To Be Considered: The following matters have been placed on the agenda for the Board of Directors meeting (items 3 through 6 are only necessary if a quorum is not established in the stockholders' meeting and these items are not addressed previously):

1. Call to order.

2. Action on Minutes of the August 19, 2003, board meeting.

3. Secretary's Report on loans approved, FY 2003.

4. Treasurer's Report.

5. Privatization update, discussion, and presentations.

6. Consideration of resolution to conduct a Market Assessment.

7. Governor's Remarks.

8. Establishment of meeting dates for 2004.

9. Adjournment.

Contact Person for More Information: Roberta D. Purcell, Assistant Governor, Rural Telephone Bank, (202) 720-9554.

Dated: November 4, 2003.
Roberta D. Purcell,
Acting Governor, Rural Telephone Bank.

[FR Doc. 03-28080 Filed 11-4-03; 11:58 am]

BILLING CODE 3410-15-P